FEDERAL COMMUNICATIONS COMMISSION

Sunshine Act Meeting; Additional Item To Be Considered at Open Commission Meeting, Thursday, November 3, 2005

November 1, 2005.

The Federal Communications Commission will consider one additional item on the subject listed below at the Open Meeting on Thursday, November 3, 2005, which is scheduled to commence at 9:30 a.m. in Room TW-C305, at 445 12th Street, SW., Washington, DC.

Item No. | Bureau | Subject
4 | Enforcement | Title: Review of the Emergency Alert System (EB Docket No. 04-296).
|  | Summary: The Commission will consider a First Report and Order and Further Notice of Proposed Rulemaking concerning the Emergency Alert System rules.

The prompt and orderly conduct of Commission business permits less than 7-days notice be given for consideration of this item.

Action by the Commission, November 1, 2005. Chairman Martin; Commissioners Abernathy, Copps, and Adelstein voting to consider this item.

Additional information concerning this meeting may be obtained from Audrey Spivack or David Fiske, Office of Media Relations, (202) 418-0500; TTY 1-888-835-5322.

Federal Communications Commission.
Marlene H. Dortch,
Secretary.

[FR Doc. 05-22235 Filed 11-3-05; 12:35 pm]

BILLING CODE 6712-01-P